FEDERAL DEPOSIT INSURANCE CORPORATION

Designated Reserve Ratio for 2018

AGENCY: Federal Deposit Insurance Corporation (FDIC).

ACTION: Notice of Designated Reserve Ratio for 2018.

SUMMARY: Pursuant to the Federal Deposit Insurance Act, the Board of Directors of the Federal Deposit Insurance Corporation designates that the Designated Reserve Ratio (DRR) for the Deposit Insurance Fund shall remain at 2 percent for 2018. The Board is publishing this notice as required by section 7(b)(3)(A)(i) of the Federal Deposit Insurance Act.

FOR FURTHER INFORMATION CONTACT: Munsell St. Clair, Chief, Banking and Regulatory Policy Section, Division of Insurance and Research, (202) 898-8967; Robert Grohal, Chief, Fund Analysis and Pricing Section, Division of Insurance and Research, (202) 898-6939; or Sheikha Kapoor, Senior Counsel, Legal Division, (202) 898-3960.

Dated at Washington, DC, on September 27, 2017.
By order of the Board of Directors.
Valerie J. Best,
Assistant Executive Secretary.

[FR Doc. 2017-27539 Filed 12-21-17; 8:45 am]

BILLING CODE 6714-01-P